DEPARTMENT OF COMMERCE

International Trade Administration

[A-570-909]

Certain Steel Nails From the People's Republic of China: Final Results of the Antidumping Duty Administrative Review and Final Determination of No Shipments; 2019-2020

AGENCY: Enforcement and Compliance, International Trade Administration, U.S. Department of Commerce.

SUMMARY: The Department of Commerce (Commerce) determines that certain steel nails (nails) from the People's Republic of China (China) were sold in the United States at less than normal value for the period of review (POR) August 1, 2019, through July 31, 2020. Commerce continues to find that the two mandatory respondents, Qingdao D&L Group Ltd. (Qingdao D&L) and Shanghai Yueda Nails Industry Co., Ltd., a.k.a. Shanghai Yueda Nails Co. (Shanghai Yueda), are not eligible for a separate rate and are to be considered part of the China-wide entity. Moreover, we continue to find that Shanghai Curvet Hardware Products Co., Ltd. (Shanghai Curvet) and Tianjin Zhonglian Metals Ware Co., Ltd. (Tianjin Zhonglian) are eligible for a separate rate and that 21 companies had no shipments.

DATES: Applicable March 9, 2022.

FOR FURTHER INFORMATION CONTACT: Joshua Simonidis, AD/CVD Operations, Office VIII, Enforcement and Compliance, International Trade Administration, Department of Commerce, 1401 Constitution Avenue NW, Washington, DC 20230; telephone: (202) 482-0608.

SUPPLEMENTARY INFORMATION:

Background

Commerce published the Preliminary Results on May 11, 2021.¹ On June 10, 2021, we received timely case briefs from Mid Continent Steel & Wire, Inc. (the petitioner) and Paslode Fasteners (Shanghai) Co., Ltd. (Paslode).² We received no rebuttal briefs. On August 12, 2021, Commerce extended the deadline of the final results of this administrative review by 62 days, until November 9, 2021.³ On November 2, 2021, Commerce further extended the deadline of the final results of this administrative review by 115 days until March 4, 2022.⁴

¹ See Certain Steel Nails from the People's Republic of China: Preliminary Results of the Antidumping Duty Administrative Review and Preliminary Determination of No Shipments; 2019-2020, 86 FR 25841 (May 11, 2021) (Preliminary Results), and accompanying Preliminary Decision Memorandum (PDM).

² See Petitioner's Letter, “Case Brief,” dated June 10, 2021; see also Paslode's Letter, “Case Brief of Paslode,” dated June 10, 2021.

³ See Memorandum, “Extension of Deadline for Final Results of 2019-2020 Antidumping Duty Administrative Review,” dated August 12, 2021.

⁴ See Memorandum, “Extension of Deadline for Final Results of 2019-2020 Antidumping Administrative Review,” dated November 2, 2021.

Scope of the Order ⁵

⁵ See Notice of Antidumping Duty Order: Certain Steel Nails from the People's Republic of China, 73 FR 44961(August 1, 2008) (Order); see also Certain Steel Nails from the People's Republic of China: Final Results of Antidumping Duty Changed Circumstances Review, 84 FR 49508 (September 20, 2019).

The merchandise covered by the Order is nails from China. A full description of the scope of the Order is contained in the Issues and Decision Memorandum.⁶

⁶ See Memorandum, “Issues and Decision Memorandum for the Final Results of the Antidumping Duty Administrative Review: Certain Steel Nails from the People's Republic of China; 2019-2020,” dated concurrently with, and hereby adopted by, this notice (Issues and Decision Memorandum).

Analysis of Comments Received

All issues raised in the case briefs are addressed in the Issues and Decision Memorandum. A list of the issues that parties raised and to which we responded in the Issues and Decision Memorandum is attached to this notice as Appendix I. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, entries of nails produced and exported by Paslode are excluded from the Order and not subject to a cash deposit. Therefore, we will no longer include Paslode as part of the China-wide entity with respect to these entries.⁷ However, entries of nails exported, but not produced, by Paslode, if any, remain subject to the review and are subject to the China-wide rate. This has been clarified in Appendix II.

⁷ Id. at Comment 1.

We revised the separate rate applied to Shanghai Curvet and Tianjin Zhonglian to reflect the separate rate established in the most recently completed review segment of this proceeding, i.e., 22.91 percent.⁸

⁸ See Certain Steel Nails from the People's Republic of China: Final Results of Antidumping Duty Administrative Review and Final Determination of No Shipments; 2018-2019, 86 FR 33219 (June 24, 2021); see also Issues and Decision Memorandum at Comment 2.

Separate Rate Respondents

In the Preliminary Results, Commerce determined that Shanghai Curvet and Tianjin Zhonglian demonstrated their eligibility for a separate rate.⁹ We received no comments or arguments since the issuance of the Preliminary Results that provide a basis for reconsideration of these determinations. Accordingly, Commerce is assigning Shanghai Curvet and Tianjin Zhonglian the most recent previous separate rate of 22.95 percent as its “reasonable method” to derive the separate rate pursuant to section 735(c)(5)(B) of the Act.¹⁰

⁹ See Preliminary Results, 86 FR at 25843.

¹⁰ See Issues and Decision Memorandum at Comment 2.

China-Wide Entity

In the Preliminary Results, Commerce preliminarily determined that Qingdao D&L and Shanghai Yueda had not established their eligibility for a separate rate.¹¹ Moreover, Commerce preliminarily determined that 427 other companies for which a review was initiated did not establish their eligibility for a separate rate because they failed to provide a separate rate application, a separate rate certification, or a no-shipment certification if they were already eligible for a separate rate.¹² As such, we preliminarily determined that Qingdao D&L and Shanghai Yueda and these 427 companies are part of the China-wide entity.¹³ For these final results, we find that the 429 companies, including Qingdao D&L and Shanghai Yueda, identified in Appendix II to this notice are part of the China-wide entity. However, as noted above, Commerce no longer considers Paslode part of the China-wide entity with respect to subject merchandise it both produces and exports.¹⁴

¹¹ See Preliminary Results PDM at 4-5.

¹² See Appendix II of this notice which identifies these 427 companies along with Qingdao D&L and Shanghai Yueda.

¹³ See Preliminary Results PDM at 4-5.

¹⁴ See Issues and Decision Memorandum at Comment 1.

Commerce's policy regarding conditional review of the China-wide entity applies to this administrative review.¹⁵ Under this policy, the China-wide entity will not be under review unless a party specifically requests, or Commerce self-initiates, a review of the China-wide entity.¹⁶ Because no party requested a review of the China-wide entity in this review, the China-wide entity is not under review and the China-wide entity's rate (i.e., 118.04 percent) is not subject to change as a result of this review.¹⁷

¹⁵ See Antidumping Proceedings: Announcement of Change in Department Practice for Respondent Selection in Antidumping Proceedings and Conditional Review of the Nonmarket Economy Entity in NME Antidumping Duty Proceedings, 78 FR 65963 (November 4, 2013).

¹⁶ Id.

¹⁷ See Order.

Final Determination of No Shipments

In the Preliminary Results, Commerce determined that 21 companies had no shipments during the POR.¹⁸ We received no arguments identifying information that contradicts this determination. Therefore, we continue to find that these companies had no shipments of subject merchandise to the United States during the POR and will issue appropriate liquidation instructions.¹⁹

¹⁸ These companies are: (1) Astrotech Steels Private Limited; (2) Dezhou Hualude Hardware Products Co., Ltd.; (3) Geekay Wires Limited; (4) Hebei Minmetals Co., Ltd.; (5) Mingguang Ruifeng Hardware Products Co., Ltd.; (6) Nanjing Caiqing Hardware Co., Ltd.; (7) Nanjing Yuechang Hardware Co., Ltd.; (8) Region Industries Co., Ltd.; (9) Region System Sdn. Bhd; (10) Schenker China Ltd Chengdu Branch; (11) Schenker China Ltd.; (12) SDC International Aust. Pty. Ltd.; (13) Shandong Qingyun Hongyi Hardware Products Co., Ltd.; (14) Shanxi Hairui Trade Co., Ltd.; (15) Shanxi Pioneer Hardware Industrial Co., Ltd.; (16) Shanxi Yuci Broad Wire Products Co., Ltd.; (17) S-Mart (Tianjin) Technology Development Co., Ltd.; (18) Suntec Industries Co., Ltd.; (19) Tianjin Jinchi Metal Products Co., Ltd.; (20) Tianjin Jinghai County Hongli Industry & Business Co., Ltd.; and (21) Xi'an Metals & Minerals Import & Export Co., Ltd. See Preliminary Results, 86 FR at 25842.

¹⁹ See Non-Market Economy Antidumping Proceedings: Assessment of Antidumping Duties, 76 FR 65694 (October 24, 2011).

Final Results of the Administrative Review

As a result of this administrative review, Commerce determines that the following weighted-average dumping margins exist for the period August 1, 2019, to July 31, 2020:

Exporter | Estimated weighted-average dumping margin (percent)
Shanghai Curvet Hardware Products Co., Ltd | 22.91
Tianjin Zhonglian Metals Ware Co., Ltd | 22.91

Assessment Rates

Commerce has determined, and U.S. Customs and Border Protection (CBP) shall assess, antidumping duties on all appropriate entries covered by this review in accordance with section 751(a)(2)(C) of the Act and 19 CFR 351.212(b). We will instruct CBP to apply an ad valorem assessment rate of 118.04 percent to all entries of subject merchandise during the POR which were exported by the 429 companies, including Qingdao D&L and Shanghai Yueda, in the China-wide entity.²⁰ In addition, we will instruct CBP to assess any suspended entries of subject merchandise associated with the companies listed in the “Final Determination of No Shipments” section above at the China-wide rate. For Shanghai Curvet and Tianjin Zhonglian, we will assign an assessment rate of 22.91 percent as described in the “Separate Rate Respondents” section above.

²⁰ Paslode was inadvertently included in the China-wide entity in the Preliminary Results of this review without clarification. As indicated in the “Changes Since the Preliminary Results” section above, any entries of subject merchandise produced and exported by Paslode are not subject to review. However, any entries of subject merchandise exported but not produced by Paslode are subject to review and will be assessed at the China-wide rate.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on or after the publication date of this notice, as provided by section 751(a)(2)(C) of the Act: (1) For each company listed in the final results of this review, the cash deposit rate will be equal to the weighted-average dumping margin listed for the exporter in the table; (2) for a previously examined Chinese and non-Chinese exporter not listed above that received a separate rate in a prior completed segment of this proceeding, the cash deposit rate will continue to be the existing exporter-specific cash deposit rate; (3) for all Chinese exporters of subject merchandise that have not been found to be entitled to a separate rate, the cash deposit rate will be the rate for the China-wide entity (i.e., 118.04 percent); and (4) for all non-Chinese exporters of subject merchandise which have not received their own separate rate, the cash deposit rate will be the rate applicable to the Chinese exporter that supplied that non-Chinese exporter. We also note that entries of subject merchandise produced and exported by Paslode Fasteners (Shanghai) Co., Ltd. are excluded from the Order, and are not subject to a cash deposit.²¹

²¹ See Notice of Antidumping Duty Order: Certain Steel Nails from the People's Republic of China, 73 FR 44961 (August 1, 2008); see also Appendix II.

These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

This administrative review and notice are issued and published in accordance with sections 751(a)(1) and 777(i)(1) of the Act, 19 CFR 351.213, and 19 CFR 351.221(b)(5).

Dated: March 3, 2022.
Lisa W. Wang,
Assistant Secretary for Enforcement and Compliance.

Appendix I

List of Topics Discussed in the Issues and Decision Memorandum

I. Summary

II. Background

III. Scope of the Order

IV. Discussion of the Issues

Comment 1: Paslode's Exclusion From the China-Wide Entity

Comment 2: Assigning the China-Wide Rate to Separate Rate Applicants

V. Recommendation

Appendix II

List of Companies Determined To Be Part of the China-Wide Entity

1. ARaymond Automotive Fasteners

2. Achbest Company Ltd.

3. Air Tiger Express (Asia) Inc.

4. A-Jax Enterprises Ltd.

5. Alfa Marine (Shanghai) Co., Ltd

6. Alltrade Pacific Co., Ltd.

7. Am Global Shipping Lines Co., Ltd.

8. American Ocean Maritime Inc.

9. Apex Maritime (Ningbo) Co., Ltd.

10. Aplix Shanghai Fasteners

11. Arvid Nilsson Logistics & Trade (Shanghai) Co., Ltd

12. Auto Way Wuxi Casting Industry Co.

13. Beijing Catic Industry Limited

14. Beijing Century Joyo Courier Service

15. Beijing Jinheung Co., Ltd

16. Beijing Kang Jie Kong International Cargo Agent Co., Ltd.

17. Beijing MMCC Ltd.

18. Bollore Logistics China Co., Ltd Nanjing Branch

19. Bollore Logistics China Co., Ltd Tianjin Branch

20. Bonuts Hardware Logistics

21. Brilliant Group Logistics Corp.

22. Brilliant Logistics Group Inc.

23. C.H. Robinson Freight Services (China)

24. C.H. Robinson Freight Services China Ltd. Ningbo Branch

25. Caesar Shipping Logistics Co., Ltd.

26. Cana (Rizhao) Hardware Co., Ltd.

27. Cangzhou Xinqiao International Trade Co., Ltd.

28. Cargo Services (Tianjin) Co., Ltd.

29. Carotrans

30. Cas International Co., Ltd

31. Casia Global Logistics Company Ltd.

32. Certified Products International Inc.

33. Cheng Ch International Co., Ltd.

34. China International Freight (China) Ltd. Tianjin Branch

35. China International Freight Co., Ltd.

36. China Mast Forwarders Co., Ltd.

37. China Sea Marine Co., Ltd

38. Chinatrans International Limited

39. Chinatrans International Limited (China) Ltd. Tianjin Branch

40. City Ocean Logistics Co., Ltd.

41. Clearfreight Shanghai Limited

42. CN Worldwide International Freight Forwarding (Shanghai) Ltd.

43. Cosco International Freight Company

44. CRSA Global Logistics (Shanghai) Co.

45. CTS International Logistics Corporation Limited

46. D&F Material Products Ltd.

47. Daejin Steel Co., Ltd.

48. Dalian Dragon Star Imp. & Exp. Co., Ltd

49. Dalian Wanxiang International Trade Co., Ltd

50. Damco China Limited (Dongguan Forta Electronics Co., Ltd.)

51. Damco China Limited Ningbo Branch

52. Damco China Limited Qingdao Branch

53. Damco China Limited Shenzhen Branch

54. Damco Shenzhen

55. De Fasteners Inc.

56. DHL Global Forwarding (China) Co., Ltd. Tianjin Branch

57. Doublemoon Hardware Company Ltd

58. Dsv Air & Sea Co., Ltd (Tianjin)

59. Dynamic Network Container Line Ltd

60. E Cargoway Logistics Co., Ltd.

61. Eastrong International Logistics Co.

62. Eclat Int'l Co., Ltd.

63. Eco-Friendly Floor Ltd.

64. ECO System Corporation

65. Ejen Brothers Limited

66. ELG Logistic

67. Essentra Plastic Products Ningbo Co.

68. Eternity Int'l Freight Forwarder

69. E-Top Shipping Co., Ltd

70. Eumex Line Shenzhen Limited

71. Evergreen Global

72. Everscene Logistics Company Limited

73. Everstar Logistics Co., Ltd.

74. Fastgrow International Co., Inc.

75. Fastic Shipping Co., Ltd.

76. Fedex International Freight

77. Forest Shipping International Ltd.

78. Foshan Hosontool Development Hardware

79. Fourever International Limited

80. Gem-Duo Co., Ltd.

81. Gem-Year Industrial Co., Ltd.

82. Global Link (Shanghai) Co., Ltd.

83. Glori-Industry Hongkong Incorporation

84. Grandpac Aviation Shanghai Co. Ltd.

85. GTG Logistics Co., Ltd (Tianjin Branch)

86. Guangdong Meite Mechanical Co., Ltd.

87. Guangzhou Caixuan Cosmetics Co., Ltd.

88. Guangzhou Feixing Trading Co., Ltd.

89. Guangzhou Guanhong Cosmetics

90. Guangzhou Unigel Nails Syst

91. H&H International Forwarders Co., Ltd.

92. Haiyan Sanhuan Fasteners Co., Ltd.

93. Haiyan Yuanyang Standard Piece Co., Ltd.

94. Hangzhou Jiefa Materials Co., Ltd

95. Hebei Airsea Logistics Ltd.

96. Hebei Cangzhou New Century Foreign Trade Co., Ltd.

97. Hebei Chunghwa Star International Trading Company Limited

98. Hebei Five-Star Metal Products Co., Ltd.

99. Hebei Metal Trading Co., Ltd.

100. Hebei Minghao Import &Export Co., Ltd

101. Hebei Tianfeng Metal Products Co., Ltd

102. Hecny Shipping Limited

103. Hecny Transportation (Shanghai) Ltd.

104. Hengtuo Metal Products Co., Ltd

105. Hong Kong Yu Xi Co., Ltd.

106. Honour Lane Shipping Limited

107. Honour Lane Shipping Ltd Ningbo Branch

108. Honour Lane Shipping Ltd Qingdao Branch

109. Honour Lane Shipping Ltd. Tianjin Branch

110. Hualin Hydraulic Nantong Co., Ltd.

111. Hualin Ltd.

112. Huanghua Rc Business Co., Ltd

113. Huanghua Yingjin Hardware Products

114. Huiwen Jiahe (Shandong) Trading Co., Ltd.

115. Huzhou Jiehui Import And Export Co.

116. IFI & Morgan Ltd.

117. Interglobo International Freight Co., Ltd.

118. J.Y. Logistics Co., Ltd.

119. Jade Shuttle Enterprise Co., Ltd.

120. JCD Group Company Limited

121. Jeter Shipping Guangzhou Limited

122. Jiangsu Cheda Auto Accessories Co., Ltd.

123. Jiangsu Globe Logistics Ltd., Co.

124. Jiangsu Globe Logistics Ltd., Co., Tianjin Branch

125. Jiangsu Soho Honry Import & Export Co.

126. Jiarong Enterprises Co., Ltd.

127. Jiaxing Haijin Hardware Technology

128. Jiaxing Innofast Trading Co., Ltd.

129. Jiaxing Port Lixin Fasteners Co., Ltd

130. Jiaxing TSR Hardware Inc.

131. Jiele Construction Materials

132. Jinan High Strength Standard Pa Co., Ltd.

133. Jinan Jinbao Plastic Co., Ltd.

134. Jinan Zhongchuan Equipment Co., Ltd.

135. Jinhai Hardware Co., Ltd.

136. Jinheung Steel Corporation

137. Jinsco International Corp.

138. Jushiqiangsen (Tianjin)International

139. K-Apex International Freight (Ningbo) Co., Ltd.

140. K-Apex Logistics (Nanjing) Co., Ltd.

141. K-Apex Logistics (Qingdao) Co., Ltd.

142. K-Apex Logistics (Shanghai) Co., Ltd

143. K-Apex Logistics (Tianjin) Co., Ltd.

144. King Freight International Corp.

145. Kingshadow Co., Limited

146. Kingteam Precision Technology Co., Ltd.

147. Kintetsu World Express (China) Co.

148. Koram Inc.

149. Koram Steel Co., Ltd.

150. Korea Wire Co., Ltd.

151. Ko's Nail Incorporation

152. Kuehne & Nagel Ltd

153. Kuehne & Nagel Ltd Ningbo Branch Office

154. Kuehne & Nagel Ltd Tianjin Branch

155. Kuraray Magictape Shanghai Co., Ltd.

156. Lf Logistics (China) Co., Ltd.

157. Li Ya Xuan Furniture Factory

158. Liangmei Furniture Factory

159. Linkswork Logistics Limited

160. Linqing Huawei Bearing Co., Ltd.

161. Linyi Andi Supply Chain Co., Ltd.

162. Linyi Compass Supply Chain Co., Ltd

163. Linyi Flying Arrow Imp. & Exp. Co., Ltd.

164. Linyi Jianchengde Metal Hardware Co.

165. Linyi Vega Trading Co., Ltd.

166. Linyi Wan Gong Industry & Trade Co., Ltd.

167. Lishui Hongda Industry Co., Ltd

168. M+R Forwarding (China) Ltd.

169. M+R Forwarding (China) Ltd. Tianjin

170. Madison Shanghai Trading Co., Ltd.

171. Mallory Alexander (Asia Pacific)

172. Master International Logistics China Co., Ltd.

173. Maxwide Logistics Inc.

174. MB Logistics International Cn Ltd.

175. Mingguang Abundant Hardware Products Co., Ltd.

176. Morito Scovill HK Co., Ltd.

177. Nailtech Co., Ltd.

178. Nanjing North Star Intl Freight Forwarder Co., Ltd.

179. Nanjing Nuochun Hardware Co., Ltd.

180. Nanjing Toua Hardware & Tools Co., Ltd.

181. Neptune Shipping Limited

182. New Chain Logistics Co., Ltd

183. New Line Industry Company Limited

184. New Pole Power System Co Ltd

185. Nightingale Global Co., Ltd

186. Ningbo Beilun Xiangzi Imp&Exp Co., Ltd.

187. Ningbo Cosmos International Logistics

188. Ningbo Echoes International Trading Co., Ltd.

189. Ningbo Etdz Holdings Ltd

190. Ningbo Giftyland Co., Limited

191. Ningbo Haishu Ling Lang Trade Co., L

192. Ningbo Haitian Holding Group Co., Ltd.

193. Ningbo Hyderon Hardware Co., Ltd

194. Ningbo Kaili International Trading

195. Ningbo Kan Grow Bags Co., Ltd

196. Ningbo Langyi Metal Products Co., Ltd.

197. Ningbo Nd Imp. & Exp., Co., Ltd.

198. Ningbo Panxiang Imp & Exp Co., Ltd.

199. Ningbo Port Southeast Logistics Gro

200. Ningbo Shixun Import & Export Co., Ltd.

201. Ningbo Skycan Mold Manufacturing Ltd.

202. Ningbo Tianqi Ecommerce Co Ltd

203. Ningbo Truepower Import & Export Co., Ltd.

204. Ningbo United Group Import & Export Co., Ltd.

205. Ningbo Wepartner Import & Export Company Limited

206. Ningbo Winjoy Intl Trading Co.

207. Ningbo Winpex Imp & Exp Co., Ltd.

208. Ningbo Yanyi Trade Co., Ltd.

209. Ningbo Yinzhou Angelstar (International Trading) Co., Ltd.

210. Ningbo Yinzhou Wintie Auto Parts Co.

211. Ningbo Zhenda Stationery Co., Ltd.

212. Ninghai Rayguang Horsemanship Products Co., Ltd

213. Ocean Industrial Co., Limited

214. Ocean King Industries Limited

215. OEC Logistics (Qingdao) Co., Ltd

216. OEC Logistics (Qingdao) Co., Ltd, Tianjin Branch

217. OEC Logistics (Qingdao) Co., Ltd. (Dalian Branch).

218. One Touch Share Co., Limited

219. Ong Ming Enterprise Co., Ltd.

220. OOCL Logistics (China) Limited

221. Orient Express Container Co., Ltd

222. Orient Express Container Co., Ltd. Shenzhen Branch

223. Orient Star Transport International

224. Oriental Air Transport Service Inc.

225. Oriental Logistics Group Ltd.

226. Pacific Link International Freight

227. Pacific Star Express (China) Co., Ltd.

228. Packcraft Co., Ltd.

229. Panalpina World Transport (Prc) Ltd

230. Pantos Logistics (China) Co., Ltd

231. Parisi Grand Smooth Logistics Ltd.

232. Paslode Fasteners (Shanghai) Co., Ltd.²²

²² Entries of the subject merchandise produced and exported by Paslode Fasteners (Shanghai) Co., Ltd. are excluded from the Order. However, in our instructions to CBP, we will direct that subject merchandise exported by Paslode Fasteners (Shanghai) Co., Ltd. but produced by any other company is subject to the China-wide entity rate. See Issues and Decision Memorandum at Comment 1 for further discussion.

233. Patek Tool Co., Ltd.

234. Peaksight (Shanghai) Technologies

235. Pem China Co., Ltd.

236. Penavico International Logistics, Co., Ltd.

237. Pennengineering Automotive Fasteners Kunshan Co., Ltd.

238. Pilot Logistics China Co., Ltd.

239. Pino Industry Co., Ltd.

240. Prime Shipping International, Inc.

241. Pro-Team Coil Nail Enterprise Inc.

242. Prym Consumer Ningbo Trading Limited

243. Pudong Prime International Logistics, Inc

244. Pudong Prime Int'l Logistics, Inc. (Qingdao Branch)

245. Qifeng Precision Industry Sci-Tech Corp.

246. Qingdao Ant Hardware Manufacturing Co., Ltd.

247. Qingdao Cheshire Trading Co., Ltd.

248. Qingdao D&L Group Ltd.

249. Qingdao Gold Dragon Co., Ltd.

250. Qingdao Grand Intl Co., Ltd.

251. Qingdao Hailifeng Rigging Co., Ltd

252. Qingdao Hongyuan Nail Industy Co., Ltd.

253. Qingdao JCD Machinery Co., Ltd.

254. Qingdao Jisco Co., Ltd.

255. Qingdao Kinghood Tools Co., Ltd

256. Qingdao Meijialucky Industry & Commerce Co., Ltd.

257. Qingdao Mst Industry & Commerce Co.

258. Qingdao Powerful Machinery Co., Ltd.

259. Qingdao Qinhang International

260. Qingdao Shantron International

261. Qingdao Shenghengtong Metal Products Co., Ltd

262. Qingdao Sun Star International

263. Qingdao Tansky International, Ltd.

264. Qingdao Tianshi Logistics Co., Limited

265. Qinhuangdao Ampac Building Products

266. Quick Advance Inc.

267. RMB Fasteners Limited Shanghai Rep. Office

268. Robertson Inc. (Jiaxing)

269. Rohlig China Limited Shanghai Branch

270. Romp Coil Nail Industries Inc.

271. Safround Logistic Co., Ltd

272. Scanwell Container Line Ltd

273. Seamaster Global Forwarding (China) Limited Tianjin Branch

274. Seamaster Global Forwarding (Shanghai)

275. Seasky Logistics Co. Ltd.

276. Shandong Dinglong Import & Export Co., Ltd.

277. Shandong Guomei Industry Co., Ltd

278. Shandong Intco Recycling Resources Co., Ltd.

279. Shandong Kangrong International

280. Shandong Tengda Fasten Tech. Co.

281. Shanghai Ai Lian International Trade Co., Ltd.

282. Shanghai Amass Freight International

283. Shanghai Autocraft Co., Ltd

284. Shanghai Ba-Shi Yuexin Logistics Development Co., Ltd.

285. Shanghai Cedargreen Imp & Exp Co., Ltd

286. Shanghai Danube International Logistics Co., Ltd.

287. Shanghai E-Sky Transportation Co., Ltd

288. Shanghai Finigate Integrated Logistics

289. Shanghai Goldenbridge International

290. Shanghai Goro Conveyor System Components Co Ltd

291. Shanghai Grand Sound International Transportation Co., Ltd

292. Shanghai Hu Nan Foreign

293. Shanghai Hualin Co., Ltd

294. Shanghai International Trade Transportation Co., Ltd.

295. Shanghai Jade Shuttle Hardware Tools Co. Ltd.

296. Shanghai Kaijun Logistics Co., Ltd. (Shenzhen Branch)

297. Shanghai Kaijun Logistics Co. Ltd.

298. Shanghai Landa International Trade Co., Ltd.

299. Shanghai Lead Trans International Ltd.

300. Shanghai March Import Export Company Ltd.

301. Shanghai Nanshi Foreign Economic Co.

302. Shanghai Nanshi Foreign Economic Cooperation Trading Company Ltd.

303. Shanghai Overseas Imp. & Exp Co., Ltd

304. Shanghai Pudong Int'l Transportation

305. Shanghai Seti Enterprise Int'l Co. Ltd.

306. Shanghai Shenda Imp. & Exp. Co., Ltd

307. Shanghai Solex Express Inc.

308. Shanghai Speedier Logistics Co., Ltd

309. Shanghai Sutek Industries Co., Ltd.

310. Shanghai Television & Electronics Import & Export Co., Ltd.

311. Shanghai Textile Raw Materials Co., Ltd.

312. Shanghai Tianshi Logistics Co., Ltd

313. Shanghai Worldtrans Logistics Services Limited

314. Shanghai Xuanming International

315. Shanghai Yueda Nails Industry Co., Ltd., a.k.a. Shanghai Yueda Nails Co.

316. Shantou Wanli Biotechnology Co., Ltd.

317. Shanxi Tianli Industries Co., Ltd

318. Shaoxing Bohui Import & Export Co., Ltd.

319. Shaoxing Chengye Metal Producing Co. Ltd.

320. Sheenbow Pigment Technology Co., Ltd

321. Shenzhen Baoyuanxin Trading Co., Ltd.

322. Shenzhen Lucky Logistics Ltd

323. Shenzhen Lucky Logistics Ltd. Guangzhou Branch

324. Shenzhen Pacific-Net Logistics Inc.

325. Shenzhen Pacific-Net Logistics Inc. Shanghai Branch

326. Shenzhen Sea Aerosol Co., Ltd.

327. Shenzhen Sunray Technology Co., Ltd.

328. Shenzhen Xinda Tongyuan Trading Co., Ltd.

329. Shenzhen Xinjintai Hardware Co., Ltd.

330. Shenzhen Yibai Network Technology

331. Shenzhen Zbao Logistics Company Limited

332. Shijiazhuang North Ornamental Casting Products Limited Company

333. Shijiazhuang Shuangming Trade Co., Ltd.

334. Shine International Transportation Ltd.

335. Shipco Transport (Shanghai) Ltd., Shen Zhen Branch

336. Shye Chang Ningbo Precision Electronic Co. Ltd

337. Sino Connections Logistics Inc.

338. Sunwell Industries Co., Ltd

339. Suzhou Jinyuan Fastener Co., Ltd

340. Suzhou Lantai Hardware Products

341. T.H.I. Group (Shanghai) Ltd.

342. Tag Fasteners Sdn Bhd

343. Tangshan Jikuang Mining Supplies Co.

344. Tengzhou Tri-Union Machinery Co. Ltd

345. Tian Heng Xiang Metal Products Co Ltd

346. Tianjin Baisheng Metal Products Co. Ltd.

347. Tianjin Coways Metal Products Co., Ltd

348. Tianjin Dagang Jingang Nail Factory

349. Tianjin Dongjiang Int'l. Shipping Exchange Market

350. Tianjin Free Trade Service Co Ltd

351. Tianjin High Wing International

352. Tianjin Hongli Qiangsheng Import & Export Co., Ltd.

353. Tianjin Huixinshangmao Co. Ltd.

354. Tianjin Hweschun Fasteners Manufacturing

355. Tianjin Jin Xin Sheng Long Metal Products Co., Ltd.

356. Tianjin Jinyifeng Hardware Co., Ltd

357. Tianjin Lianda Group Co. Ltd.

358. Tianjin Seungil Chem Tech Co., Ltd.

359. Tianjin Star Pet Tech Co., Ltd.

360. Tianjin Universal Machinery Imp. & Exp. Corporation

361. Tianjin Yinghua Arts & Crafts Co., Ltd.

362. Tianjin Zhonglian Times Technology Co., Ltd.

363. Tianshi Logistics Co., Limited

364. Titan ITM (Tianjin) Co, Ltd

365. Toll Global Forwarding (Hong Kong)

366. Topocean Consolidation Service (China) Ltd.

367. Topocean Consolidation Service (China) Ltd. Tianjin Branch

368. Topocean Consolidation Service (China) Ltd., Qingdao Branch

369. Total Glory Logistics Co., Ltd.

370. Trans Knights Inc.

371. Trans Knights Int'l Logistics (Shanghai) Co., Ltd.

372. Trans Wagon International China Co., Ltd.

373. Translink Shipping Inc.

374. Translink Shipping Inc Nanjing Branch

375. Translink Shipping Inc., Xiamen Branch

376. Translink Shipping Inc-Qingdao

377. Translink Shipping Lines—Ningbo (China) Co., Ltd.

378. Trans-Union International Logistics

379. Transwell Logistics Co., Ltd.

380. Triumph Link Logistics Limited

381. TTI Freight Forwarder Company Limited

382. U.S. United Logistics (Ningbo) Inc.

383. UBI Logistics (China) Limited

384. Unicorn Fasteners Co., Ltd.

385. Unique Logistics International (H.K.) Ltd.

386. UPS SCS (China) Co., Ltd. Jiangsu

387. UPS SCS (China) Co., Ltd Ningbo

388. Walkbase Rubber Products Co., Ltd.

389. Waxman Technology China Limited

390. Weida Freight System Co., Ltd

391. Weifang Wenhe Pneumatic Tools Co. Ltd

392. Whale Logistics (Shanghai) Company

393. World Jaguar Logistics, Inc.

394. Worldwide Logistics Co., Ltd.

395. Wuhu Diamond Metal Products Co., Ltd

396. Wulian Zhanpeng Metals Co

397. Wuxi Phoenix Artist Materials Co., Ltd.

398. Xiamen Greating Logistics Company Ltd

399. Xiamen Jianming Rising Import & Exp

400. Xiamen Universe Solar Technology Co Ltd

401. Xinchang Xinchai Machinery Co., Ltd.

402. Suzhou Xingya Nail Co., Ltd.

403. Senco-Xingya Metal Products (Taicang) Co., Ltd.

404. Hong Kong Yu Xi Co., Ltd.

405. Omnifast Inc.

406. CIP International Group Co, Ltd.

407. Yangzhou Tongxie Weaving Co Ltd

408. Beijing Kang Jie Kong Int'l Cargo Ag

409. Youngwoo (Cangzhou) Fasteners Co., Ltd.

410. Yusen Logistics (Shenzhen) Co., Ltd

411. Zhangjiagang Bo Hong Trade Co., Ltd.

412. Zhangjiagang Bolnut Trade Co., Ltd.

413. Zhangjiagang Chenjun Trade Co., Ltd.

414. Zhangjiagang Double-Whale Bags Mfg

415. Zhangjiagang Lianfeng Metals Products Co. Ltd.

416. Zhangjiagang Longxiang Industries Co. Ltd.

417. Zhaoqing Harvest Nails Co., Ltd

418. Zhejiang Focus-On Imp. Exp. Co.,

419. Zhejiang Hatehui Technology Co., Ltd

420. Zhejiang Hengyi Science & Technology

421. Zhejiang Huantai Precision Machinery Co., Ltd.

422. Zhejiang Laibao Precision Technology

423. Zhejiang Longquan Foreign Trade Co., Ltd.

424. Zhejiang Milestone Fastener Manufacturing Co., Ltd.

425. Zhejiang Rongpeng Imp & Exp Co., Ltd.

426. Zhejiang Sanlin Metals Products Co.

427. Zhejiang Yiwu Yongzhou Imp. & Exp. Co., Ltd

428. Zhejiang Yongzhu Casting Technology Co., Ltd.

429. Zhongge International Trading Co.

[FR Doc. 2022-05009 Filed 3-8-22; 8:45 am]

BILLING CODE 3510-DS-P